NATIONAL CREDIT UNION ADMINISTRATION

Sunshine Act Meetings

TIME AND DATE: 10:00 a.m., Friday, November 22, 2024.

PLACE: NCUA Event Center, Lobby, 1775 Duke Street (All visitors must use Diagonal Road Entrance), Alexandria, VA 22314-3428

STATUS: Open.

MATTER TO BE CONSIDERED: 1. Board Briefing, NCUA's 2025-2026 Budget.

CONTACT PERSON FOR MORE INFORMATION: Melane Conyers-Ausbrooks, Secretary of the Board, Telephone: 703-518-6304.

Melane Conyers-Ausbrooks,
Secretary of the Board.

[FR Doc. 2024-27246 Filed 11-18-24; 11:15 am]

BILLING CODE 7535-01-P